NUCLEAR REGULATORY COMMISSION

Consolidated Guidance About Materials Licenses: Program-Specific Guidance About Master Materials Licenses

AGENCY: Nuclear Regulatory Commission (NRC).

ACTION: Notice of availability of final NUREG.

SUMMARY: The NRC is announcing the availability of the final NUREG-1556, Volume 10, “Consolidated Guidance About Materials Licenses: Program-Specific Guidance about Master Materials Licenses,” dated December 2000.

The NRC is using Business Process Redesign techniques to redesign its materials licensing process, as described in NUREG-1539, “Methodology and Findings of the NRC's Materials Licensing Process Redesign.” A critical element of the new process is consolidating and updating numerous guidance documents into a NUREG-series of reports. This final NUREG report is the 10th program-specific guidance developed to support an improved materials licensing process.

This guidance is intended for use by Federal applicants and licensees, and NRC staff. This document updates the guidance for applicants and licensees previously found in Policy and Guidance Directive PG 6-02, Revision 1: “Standard Review Plan (SRP) for License Application for Master Material License,” dated September 25, 1997.

A free single copy of final NUREG-1556, Volume 10, may be requested by writing to the U.S. Nuclear Regulatory Commission, ATTN: Mrs. Carrie Brown, Mail Stop TWFN 9-F-31, Washington, DC 20555-0001. Alternatively, submit requests through the Internet by addressing electronic mail to cxb@nrc.gov. A copy of the final NUREG-1556, Volume 10, is also available for inspection and/or copying for a fee in the NRC Public Document Room, 11555 Rockville Pike, Room 01-F21, Rockville, Maryland 20852.

FOR FURTHER INFORMATION, CONTACT: Mrs. Carrie Brown, TWFN 9-F-31, Division of Industrial and Medical Nuclear Safety, Office of Nuclear Material Safety and Safeguards, U.S. Nuclear Regulatory Commission, Washington, DC 20555, telephone (301) 415-8092; electronic mail address: cxb@nrc.gov.

Electronic Access

Final NUREG-1556, Volume 10, is available electronically by visiting the NRC's Home Page (http://www.nrc.gov/nrc/nucmat.html).

Dated at Rockville, Maryland, this 31st day of January, 2001.
For the Nuclear Regulatory Commission.
Patricia K. Holahan,
Chief, Rulemaking and Guidance Branch, Division of Industrial and Medical Nuclear Safety, NMSS.

[FR Doc. 01-3137 Filed 2-6-01; 8:45 am]

BILLING CODE 7590-01-P